DEPARTMENT OF THE INTERIOR

Fish and Wildlife Service

[FWS-HQ-MB-2016-N184; 91100-3740-GRNT 7C]

Announcement of Meetings: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). The Council will consider Canadian, Mexican, and U.S. Standard grant proposals. The Advisory Group for the Neotropical Migratory Bird Conservation Act (NMBCA) grants program (Advisory Group) also will meet. The Advisory Group will discuss the strategic direction and management of the NMBCA program. Both meetings are open to the public, and interested persons may present oral or written statements.

DATES:

Meetings: Council: December 1, 2016, from 8:30 a.m. to 4:30 p.m.

Advisory Group: November 30, 2016, from 8:30 a.m. to 4:30 p.m.

Participation Deadlines: Attendance: To attend either or both meetings, contact the Council/Advisory Group Coordinator (see FOR FURTHER INFORMATION CONTACT) no later than November 23, 2016.

Submitting Information: To submit written information or questions before the Council or Advisory Group meeting for consideration during the meeting contact the Council/Advisory Group Coordinator (see FOR FURTHER INFORMATION CONTACT) no later than November 23, 2016.

ADDRESSES: The Council and Advisory Group meetings will take place at the U.S. Fish and Wildlife Service Headquarters, 5275 Leesburg Pike, Falls Church, Virginia 22041.

FOR FURTHER INFORMATION CONTACT: Sarah Mott, Council/Advisory Group Coordinator, by phone at 703-358-1784; by email at dbhc@fws.gov; or by U.S. mail at U.S. Fish and Wildlife Service, 5275 Leesburg Pike MS: MB, Falls Church, Virginia 22041. Persons who use a telecommunications device for the deaf (TDD) may call the Federal Information Relay Service (FIRS) at 1-800-877-8339 to contact the above individual during normal business hours. FIRS is available 24 hours a day, 7 days a week, to leave a message or question with the above individual. You will receive a reply during normal business hours.

SUPPLEMENTARY INFORMATION: The Council meets two to three times per year to select. The Council will consider Canadian, Mexican, and U.S. Standard NAWCA grant proposals for recommendation to the Commission. Council meetings are open to the public, and interested persons may present oral or written statements. The Advisory Group for the Neotropical Migratory Bird Conservation Act (NMBCA) grants program meets once a year. The Advisory Group will discuss the strategic direction and management of the NMBCA program. This meeting is also open to the public, and interested persons may present oral or written statements.

About the Council

In accordance with NAWCA (Pub. L. 101-233, 103 Stat. 1968, December 13, 1989, as amended), the State-private-Federal Council meets to consider wetland acquisition, restoration, enhancement, and management projects for recommendation to, and final funding approval by, the Commission. NAWCA provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA Web site at www.fws.gov/birds/grants/north-american-wetland-conservation-act.php.

About the Advisory Group

In accordance with NMBCA (Pub. L. 106-247, 114 Stat. 593, July 20, 2000), the Advisory Group will hold its meeting to discuss the strategic direction and management of the NMBCA program and provide advice to the Director of the Fish and Wildlife Service. NMBCA promotes long-term conservation of neotropical migratory birds and their habitats through a competitive grants program by promoting partnerships, encouraging local conservation efforts, and achieving habitat protection in 36 countries. The goals of NMBCA include perpetuating healthy bird populations, providing financial resources for bird conservation, and fostering international cooperation. Because the greatest need is south of the U.S. border, at least 75 percent of NMBCA funding supports projects outside the United States. Project proposal due dates, application instructions, and eligibility requirements are available on the NMBCA Web site at http://www.fws.gov/birds/grants/neotropical-migratory-bird-conservation-act.php.

Public Input

Submitting Written Information or Questions

Interested members of the public may submit relevant information or questions to be considered during the public meetings. If you wish to submit a written statement so information may be made available to the Council or Advisory Group for their consideration prior to the meetings, you must contact the Council/Advisory Group Coordinator by the date in DATES. Written statements must be supplied to the Council/Advisory Group Coordinator in both of the following formats: One hard copy with original signature, and one electronic copy via email (acceptable file formats are Adobe Acrobat PDF, MS Word, MS PowerPoint, or rich text file).

Giving an Oral Presentation

Individuals or groups requesting to make an oral presentation at the meetings will be limited to 2 minutes per speaker, with no more than a total of 30 minutes for all speakers. Interested parties should contact the Council/Advisory Group Coordinator by the date in DATES, in writing (preferably via email; see FOR FURTHER INFORMATION CONTACT), to be placed on the public speaker list for either of these meetings. Nonregistered public speakers will not be considered during the Council or the Advisory Group meeting. Registered speakers who wish to expand upon their oral statements, or those who had wished to speak but could not be accommodated on the agenda, are invited to submit written statements to the Council or Advisory Group within 30 days following the meeting.

Meeting Minutes

Summary minutes of the Council and Advisory Group meetings will be maintained by the Council/Advisory Group Coordinator at the address under FOR FURTHER INFORMATION CONTACT. Meeting notes will be available by contacting the Council/Advisory Group Coordinator within 30 days following the meeting. Personal copies may be purchased for the cost of duplication.

Jerome Ford,
Assistant Director, Migratory Birds.

[FR Doc. 2016-26166 Filed 10-28-16; 8:45 am]

BILLING CODE 4333-15-P